DEPARTMENT OF TRANSPORTATION

Coast Guard

[USCG-2001-10253]

Chemical Transportation Advisory Committee

AGENCY: Coast Guard, DOT.

ACTION: Notice of meetings.

SUMMARY: The Chemical Transportation Advisory Committee (CTAC) and its Subcommittees will meet to discuss various issues relating to the marine transportation of hazardous materials in bulk. All meetings will be open to the public.

DATES: CTAC will meet on Thursday, September 13, 2001, from 9:00 a.m. to 3:30 p.m. The Subcommittees on Prevention Through People (PTP) and Hazardous Substances Response Standards will meet on Wednesday, September 12, 2001, from 8:30 a.m. to 4:00 p.m. The Subcommittee on Vessel Cargo Tank Overpressurization will meet on Friday, September 14, 2001, from 9:00 a.m. to 3:30 p.m. These meetings may close early if all business is finished. Written material and requests to make oral presentations should reach the Coast Guard on or before August 31, 2001. Requests to have a copy of written material distributed to each member of the Committee or Subcommittee should reach the Coast Guard on or before September 5, 2001.

ADDRESSES: CTAC will meet in room 2415, U.S. Coast Guard Headquarters, 2100 2nd Street, SW., Washington, DC. The PTP Subcommittee will meet at Coast Guard Headquarters in room 1103. The Hazardous Substances Response Standards Subcommittee will meet in Suite 1000 at the National Pollution Funds Center, 4200 Wilson Blvd., Arlington, VA. The Vessel Cargo Tank Overpressurization Subcommittee will meet at Coast Guard Headquarters in room 2415. Send written material and requests to make oral presentations to Commander James M. Michalowski, Commandant (G-MSO-3), U.S. Coast Guard Headquarters, 2100 Second Street, SW., Washington, DC 20593-0001. This notice is available on the Internet at http://dms.dot.gov.

FOR FURTHER INFORMATION CONTACT: Commander James M. Michalowski, Executive Director of CTAC, or Ms. Sara S. Ju, Assistant to the Executive Director, telephone 202-267-1217, fax 202-267-4570.

SUPPLEMENTARY INFORMATION: Notice of these meetings is given under the Federal Advisory Committee Act, 5 U.S.C. App. 2.

Agenda of Meetings

Chemical Transportation Advisory Committee

(1) Introduction of Committee members and attendees.

(2) Progress Reports from the PTP, Hazardous Substances Response Standards, and Vessel Cargo Tank Overpressurization Subcommittees.

(3) Presentation on the Millennium Class Tanker.

(4) Presentation by a Guest Speaker on “Expansive Imbibition for Practical Pollution Particulation or Separating Things from Stuff.”

(5) Coast Guard update on Cargo Authority Lists for the New Coast Guard MISLE Database.

(6) Update of Coast Guard Regulatory Projects and IMO Activities.

Subcommittee on PTP. The agenda includes the following:

(1) Continuation of work on the development of a risk management guide for the chemical transportation industry.

Subcommittee on Hazardous Substances Response Standards. The agenda includes the following:

(1) Final development of recommendations to the Coast Guard concerning protocols for emergency chemical response.

Subcommittee on Vessel Cargo Tank Overpressurization. The agenda includes the following:

(1) Continuing development of recommendations for an industry standard to address the prevention of cargo tank overpressurization during inerting, padding, purging, and line clearing operations.

Procedural

All meetings are open to the public. Please note that the meetings may close early if all business is finished. At the Chairs' discretion, members of the public may make oral presentations during the meetings. If you would like to make an oral presentation at a meeting, please notify the Executive Director no later than August 31, 2001. Written material for distribution at a meeting should reach the Coast Guard no later than September 5, 2001. If you would like a copy of your material distributed to each member of the Committee or Subcommittee in advance of the meetings, please submit 25 copies to the Executive Director no later than September 5, 2001.

Information on Services for Individuals with Disabilities

For information on facilities or services for individuals with disabilities, or to request special assistance at the meetings, contact the Assistant to the Executive Director of CTAC as soon as possible.

Dated: 27 July 2001.
Joseph J. Angelo
Director of Standards, Marine Safety and Environmental Protection.

[FR Doc. 01-19729 Filed 8-6-01; 8:45 am]

BILLING CODE 4910-15-U